DEPARTMENT OF DEFENSE

Defense Finance and Accounting Service; Privacy Act of 1974; Systems of Records

AGENCY: Defense Finance and Accounting Service, DoD.

ACTION: Notice to Amend a System of Records; T5500b Garnishment Processing Files.

SUMMARY: The Defense Finance and Accounting Service is amending a system of records notice to its existing inventory of record systems subject to the Privacy Act of 1974 (5 U.S.C. 552a), as amended.

DATES: This action will be effective without further notice on September 23, 2005 unless comments are received that would result in a contrary determination.

ADDRESSES: Send comments to Ms. Linda Krabbenhoft, Freedom of Information Act/Privacy Act Program Manager, Defense Finance and Accounting Service, Denver, 6760 E. Irvington Place, Denver, CO 80279-8000, telephone (303) 676-6045.

FOR FURTHER INFORMATION CONTACT: Ms. Linda Krabbenhoft at (303) 676-6045.

SUPPLEMENTARY INFORMATION: The Defense Finance and Accounting Service notices for systems of records subject to the Privacy Act of 1974 (5 U.S.C. 552a), as amended, have been published in the Federal Register and are available from the address above.

The specific changes to the record system being amended are set forth below followed by the notice, as amended, published in its entirety. The proposed amendment is not within the purview of subsection (r) of the Privacy Act of 1974, (5 U.S.C. 552a), as amended, which requires the submission of a new or altered system report.

Dated: August 17, 2005.
Jeannette Owings-Ballard,
OSD Federal Register Liaison Officer, Department of Defense.

T5500b

SYSTEM NAME:

Garnishment Processing Files (July 13, 2000, 65 FR 43298).

CHANGES:

* * * * *

RETENTION AND DISPOSAL:

Delete entry and replace with “Destroy 6 years and 3 months after cutoff.”

* * * * *

T5500b

SYSTEM NAME:

Garnishment Processing Files.

SYSTEM LOCATION:

Office of the Assistant General Counsel, Garnishment Operations, Defense Finance and Accounting Service-Cleveland Center, 1240 E. 9th Street, Cleveland, OH 44199-2055.

CATEGORIES OF INDIVIDUALS COVERED BY THE SYSTEM:

Present active duty and retired military personnel; present DoD Civilian employees; present Reserve and National Guard personnel and employees of the Executive Office of the President whose pay is garnished or attached under 5 U.S.C. 5220a; 10 U.S.C. 1408; 42 U.S.C. 659; and 42 U.S.C. 665.

Categories of records in the system:

Individual state court wage withholding notices or court order garnishment orders, interrogatories, correspondence between DFAS Office of General Counsel and parties to the case, DFAS pay units, United States Attorneys, United States District Courts and other State and Government agencies relevant to the processing of child support and commercial debt garnishment, applications under the Uniformed Services Former Spouses' Protection Act and applications for military involuntary allotments for commercial debt. Also bankruptcy trustees who received payments pursuant to Chapter 13 of the Bankruptcy Code.

Authority for maintenance of the system:

5 U.S.C. 5520a, Garnishment of pay; 10 U.S.C. 1408, Payment of retired or retainer pay in compliance with court orders; 42 U.S.C. 659, Consent by United States to income withholding, garnishment, and similar proceedings for enforcement of child support and alimony obligations; 42 U.S.C. 665, Allotments from pay for child and spousal support owed by members of uniformed services on active duty; and E.O. 9397 (SSN).

Purpose(s):

Records are being maintained for the purpose of processing court orders for the garnishment of wages.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

To former spouses, who receive payments under 10 U.S.C. 1408, for purposes of providing information on how their payment was calculated to include what items were deducted from the member's gross pay and the dollar amount for each deduction.

To state child support agencies, in response to their written requests for information regarding the gross and disposable pay of military and civilian employees, for purposes of assisting the agencies in the discharge of their responsibilities under Federal and State law.

The ‘Blanket Routine Uses’ published at the beginning of the DFAS compilation of systems of records notices apply to this system.

Policies and practices for storing, retrieving, accessing, retaining, and disposing of records in the system:

Storage:

Records are maintained on electronic media.

Retrievability:

Retrieved by individual's name and Social Security Number.

Safeguards:

Records are accessed by person(s) responsible for servicing, and authorized to use, the record system in performance of their official duties who are properly screened and cleared for need-to-know. Additionally, records are in an office building protected by guards and controlled by screening of personnel and registration of visitors.

Retention and disposal:

Destroy 6 years and 3 months after cutoff.

System manager and address:

General Counsel, Defense Finance and Accounting Service Headquarters, 1931 Jefferson Davis Highway, Arlington, VA 22240-5291.

Assistant General Counsel, Garnishment Operations, Defense Finance and Accounting Service—Cleveland Center, 1240 E. 9th Street, Cleveland, OH 44199-2005.

Notification procedure:

Individuals seeking to determine whether information about themselves is contained in this system of records should address written inquiries to the Privacy Act Officer, Defense Finance and Accounting Service—Cleveland Center, 1240 E. Ninth Street, Cleveland, OH 44199-2055.

Individuals should provide sufficient proof of identity, such as full name, Social Security Number, and other information verifiable from the record itself.

Record access procedures:

Individuals seeking access to information about themselves contained in this system of records should address written inquiries to Privacy Act Officer, Defense Finance and Accounting Service—Cleveland Center, 1240 E. Ninth Street, Cleveland, OH 44199-2055.

Individuals should provide sufficient proof of identity, such as full name, Social Security Number, and other information verifiable from the record itself.

Contesting record procedures:

The DFAS rules for accessing records, for contesting contents and appealing initial agency determinations are published in DFAS Regulation 5400.11-R; 32 CFR part 324; or may be obtained from the Freedom of Information/Privacy Act Program Manager, Office of Corporate Communications, 6760 E. Irvington Place, Denver, CO 80279-8000.

Record source categories:

Information is obtained from courts, Government records, individuals and similar documents and sources relevant to the proceedings.

Exemptions claimed for the system:

None.

[FR Doc. 05-16670 Filed 8-23-05; 8:45 am]

BILLING CODE 5001-06-P